DEPARTMENT OF COMMERCE

International Trade Administration

[A-583-844]

Narrow Woven Ribbons With Woven Selvedge From Taiwan: Rescission, in Part, of Antidumping Duty Administrative Review

AGENCY: Import Administration, International Trade Administration, Department of Commerce.

DATES: Effective Date: February 17, 2012.

FOR FURTHER INFORMATION CONTACT: Hector Rodriguez or Holly Phelps, AD/CVD Operations, Office 2, Import Administration, International Trade Administration, U.S. Department of Commerce, 14th Street and Constitution Avenue NW., Washington, DC 20230; telephone: (202) 482-0629 or (202) 482-0656, respectively.

Background

On September 2, 2011, the Department of Commerce (Department) published a notice of opportunity to request an administrative review of the antidumping duty order on narrow woven ribbons with woven selvedge from Taiwan covering the period September 1, 2010, through August 31, 2011. See Antidumping or Countervailing Duty Order, Finding, or Suspended Investigation; Opportunity To Request Administrative Review, 76 FR 54735, 54736 (Sept. 2, 2011). The Department received a timely request for an antidumping duty administrative review from the petitioner, Berwick Offray LLC and its wholly-owned subsidiary Lion Ribbon Company, Inc., for the following companies: (1) Apex Ribbon; (2) Apex Trimmings; (3) FinerRibbon.com; (4) Hsien Chan Enterprise Co., Ltd.; (5) Hubschercorp; (6) Intercontinental Skyline; (7) Multicolor Inc.; (8) Novelty Handicrafts Co., Ltd.; (9) Pacific Imports; (10) Papillon Ribbon & Bow (Canada); (11) Shienq Huong Enterprise Co., Ltd.; and (12) Supreme Laces, Inc. On October 31, 2011, the Department published a notice of initiation of administrative review with respect to these companies. See Initiation of Antidumping and Countervailing Duty Administrative Reviews and Request for Revocation in Part, 76 FR 67133, 67138 (Oct. 31, 2011); and Correction to Initiation of 2010-2011 Antidumping Duty Administrative Review: Narrow Woven Ribbons With Woven Selvedge From Taiwan, 77 FR 82 (Jan. 3, 2012). On January 30, 2012, the petitioner withdrew its requests for an administrative review for all of the above-listed companies except Hubschercorp.

Rescission, in Part

Pursuant to 19 CFR 351.213(d)(1), the Secretary will rescind an administrative review, in whole or in part, if a party that requested the review withdraws the request within 90 days of the date of publication of notice of initiation of the requested review. The petitioner's request was submitted within the 90-day period and, thus, is timely. Because the petitioner's withdrawal of request for an antidumping duty administrative review is timely and because no other party requested a review of these companies, in accordance with 19 CFR 351.213(d)(1), we are rescinding this administrative review with respect to the following companies: (1) Apex Ribbon; (2) Apex Trimmings; (3) FinerRibbon.com; (4) Hsien Chan Enterprise Co., Ltd.; (5) Intercontinental Skyline; (6) Multicolor Inc.; (7) Novelty Handicrafts Co., Ltd.; (8) Pacific Imports; (9) Papillon Ribbon & Bow (Canada); (10) Shienq Huong Enterprise Co., Ltd.; and (11) Supreme Laces, Inc. The administrative review will continue with respect to Hubschercorp.

Assessment

The Department will instruct U.S. Customs and Border Protection (CBP) to assess antidumping duties on all appropriate entries. Each of the eleven companies listed above shall be assessed antidumping duties at rates equal to the cash deposit of estimated antidumping duties required at the time of entry, or withdrawal from warehouse, for consumption, in accordance with 19 CFR 351.212(c)(1)(i). The Department intends to issue appropriate assessment instructions to CBP 15 days after publication of this notice.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: February 13, 2012.
Gary Taverman,
Acting Deputy Assistant Secretary for Antidumping and Countervailing Duty Operations.

[FR Doc. 2012-3785 Filed 2-16-12; 8:45 am]

BILLING CODE 3510-DS-P